DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer at (240) 276-1243.

Comments are invited on: (a) whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Project: Minority AIDS Initiative—Management Reporting Tools (MAI-MRTs)—(OMB No. 0930-0357)—Renewal

The Substance Abuse and Mental Health Services Administration (SAMHSA), Center for Substance Abuse Prevention (CSAP) is requesting from the Office of Management and Budget (OMB) approval for the renewal of Minority AIDS Initiative (MAI) monitoring tools, which includes both youth and adult questionnaires, as well as the quarterly progress report. This revision includes the inclusion of new cohorts, substantial revisions to the youth and adult questionnaires, updates to the data used to estimate response rates and expected numbers of participants by service duration (see Table 1 below).

The cohorts of grantees funded by the MAI and included in this clearance request are:

• Prevention Navigators 2019

• Prevention Navigators 2020

• Prevention Navigators 2021

• Prevention Navigators 2022

• Prevention Navigators 2023

The target population for the grantees will be at-risk minority adolescents and young adults. All MAI grantees are expected to report their monitoring data using SAMHSA's Strategic Prevention Framework (SPF) and to target minority populations, as well as other high-risk groups residing in communities of color with high prevalence of Substance Abuse and HIV/AIDS. The primary objectives of the monitoring tools include:

• Assess the success of the MAI in reducing risk factors and increasing protective factors associated with the transmission of the Human Immunodeficiency Virus (HIV), Hepatitis C Virus (HCV) and other sexually transmitted diseases (STD).

• Measure the effectiveness of evidence-based programs and infrastructure development activities such as: outreach and training, mobilization of key stakeholders, substance abuse and HIV/AIDS counseling and education, testing, referrals to appropriate medical treatment and/or other intervention strategies (i.e., cultural enrichment activities, educational and vocational resources, social marketing campaigns, and computer-based curricula).

• Investigate intervention types and features that yield the best outcomes for specific population groups.

• Assess the extent to which access to health care was enhanced for population groups and individuals vulnerable to behavioral health disparities residing in communities targeted by funded interventions.

• Assess the process of adopting and implementing the SPF with the target populations.

• Added questions to capture details on the intervention and the referrals to the record management section (completed by grantee staff).

Table 1—Estimates of Annualized Hour Burden
Type of respondent activity | Number of respondents | Responses per respondent | Total responses | Hours per response | Total burden hours
Quarterly Progress Report | 183 | 4 | 732 | 4 | 2,928
Adult questionnaire | 10,000 | 3 | 30,000 | .20 | 6,000
Youth questionnaire | 2,500 | 3 | 7,500 | .20 | 1,500
Total | 12,683 |  | 38,232 |  | 10,428

Send comments to Carlos Graham, SAMHSA Reports Clearance Officer, 5600 Fishers Lane, Room 15E57-B, Rockville, Maryland 20857, OR email a copy to carlos.graham@samhsa.hhs.gov. Written comments should be received by May 20, 2024.

Alicia Broadus,
Public Health Advisor.

[FR Doc. 2024-05794 Filed 3-18-24; 8:45 am]

BILLING CODE 4162-20-P